DEPARTMENT OF HOMELAND SECURITY

Coast Guard

33 CFR Part 117

[Docket No. USCG-2017-0778]

Drawbridge Operation Regulation; Atlantic Intracoastal Waterway, Indian River, Titusville, FL

AGENCY: Coast Guard, DHS.

ACTION: Notice of deviation from drawbridge regulation; modification.

SUMMARY: The Coast Guard has modified a temporary deviation from the operating schedule that governs the NASA Railroad Bridge (Jay Jay Bridge) across the Atlantic Intracoastal Waterway (Indian River), mile 876.6, Titusville, Florida. This modified deviation is necessary to allow the bridge owner, National Aeronautics and Space Administration (NASA) to continue repairs to the bridge. Due to delays and damage caused by Hurricane Irma, additional repairs will be required causing the bridge to remain closed to navigation periodically throughout the day. This deviation is deemed necessary for the continued safe operation of the bridge.

DATES: This modified deviation is effective without actual notice from October 26, 2017 through 4 p.m. on October 31, 2017. For the purposes of enforcement, actual notice will be used from 8 a.m. on September 27, 2017 until October 26, 2017.

ADDRESSES: The docket for this deviation, USCG-2017-0778 is available at http://www.regulations.gov. Type the docket number in the “SEARCH” box and click “SEARCH”. Click on Open Docket Folder on the line associated with this deviation.

FOR FURTHER INFORMATION CONTACT: If you have questions on this modified temporary deviation, call or email LT Allan Storm, U.S. Coast Guard Sector Jacksonville, Waterways Management Division; telephone 904-714-7616, email Allan.H.Storm@uscg.mil.

SUPPLEMENTARY INFORMATION: On August 22, 2017, the Coast Guard published a temporary deviation entitled, “Drawbridge Operation Regulation; Atlantic Intracoastal Waterway, Indian River, Titusville, FL” in the Federal Register (82 FR 39665). Under that temporary deviation, from 8 a.m. on August 17, 2017 to 4 p.m. on September 26, 2017, the bridge would remain closed to navigation from 8 a.m. to noon and from 1 p.m. to 4 p.m., Monday through Friday. The bridge owner, NASA, has requested an extension of time for the temporary deviation from the operating schedule that governs the NASA Railroad Bridge (Jay Jay Bridge) to complete bridge repairs, due to delays and storm damage related to Hurricane Irma. The bridge is a single leaf bascule railroad bridge with a seven foot vertical clearance in the closed position. The normal operating schedule for the bridge is found in 33 CFR 117.261(j).

The deviation period is from 8 a.m. on September 27, 2017 to 4 p.m. on October 31, 2017. During this period, the bridge is allowed to remain closed to navigation from 8 a.m. to noon and from 1 p.m. to 4 p.m., Monday through Friday.

Vessels able to pass through the bridge in the closed position may do so at anytime. The bridge will be able to open for emergencies and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: September 27, 2017.
Barry L. Dragon,
Director, Bridge Branch, Seventh Coast Guard District.

[FR Doc. 2017-23322 Filed 10-25-17; 8:45 am]

BILLING CODE 9110-04-P